DEPARTMENT OF HEALTH AND HUMAN SERVICES

American Health Information Community Meeting

ACTION: Announcement of meeting.

SUMMARY: This notice announces the fourth meeting of the American Health Information Community in accordance with the Federal Advisory Committee Act (Pub. L. 92-463, 5 U.S.C., App.) The American Health Information Community will advise the Secretary and recommend specific actions to achieve a common interoperability framework for health information technology (IT).

DATES: March 7, 2006 from 8:30 a.m. to 4 p.m.

ADDRESSES: Hubert H. Humphrey building (200 Independence Ave., SW., Washington, DC 20201), Conference Room 800.

FOR FURTHER INFORMATION CONTACT: http://www.hhs.gov/healthit.

SUPPLEMENTARY INFORMATION: A webcast of the third Community meeting will be available on the NIH Web site at: http://www.videocast.nih.gov/. If you have special needs for the meeting please contact Amanda Smith at Amanda.Smith@hhs.gov or (202) 690-7385.

Dated: January 23, 2006.
Dana Haza,
Office of Programs and Coordination, Office of the National Coordinator.

[FR Doc. 06-832 Filed 1-27-06; 8:45 am]

BILLING CODE 4150-24-M